DEPARTMENT OF DEFENSE

Department of the Navy

Record of Decision for Outfall Replacement for Wastewater Treatment Plant at Fort Kamehameha, Navy Public Works Center, Pearl Harbor, HI

AGENCY: Department of the Navy, DoD.

ACTION: Notice of record of decision.

SUMMARY: The Department of the Navy, after weighing the operational, environmental, and cost implications of alternatives to the existing outfall for the Wastewater Treatment Plant (WWTP) at Fort Kamehameha, Pearl Harbor, Hawaii, announces its decision to construct a deep ocean outfall replacement that will discharge effluent into the open coastal waters of Mamala Bay to the south of the island of Oahu.

FOR FURTHER INFORMATION CONTACT: Mr. Melvin Kaku, Pacific Division Naval Facilities Engineering Command (PLN23), 258 Makalapa Drive, Suite 100, Pearl Harbor, HI 96860-3134, telephone (808) 471-9338, facsimile (808) 474-5909.

SUPPLEMENTARY INFORMATION: The Record of Decision (ROD) in its entirety is provided as follows:

Pursuant to section 102(2)(c) of the National Environmental Policy Act (NEPA) of 1969, 42 U.S.C. 4332(2)(c), and the regulations of the Council on Environmental Quality that implement NEPA procedures, 40 CFR Parts 1500-1508, the Department of the Navy (DON) announces its decision to replace a physically deteriorating effluent outfall that discharges wastewater into the entrance channel of the Pearl Harbor Estuary with a deep ocean outfall into the open coastal waters of Mamala Bay where the effluent loading is less likely to adversely impact the environment.

The existing outfall has been operating under an administrative extension to a National Pollutant Discharge Elimination System (NPDES) monitoring permit that expired on February 28, 1993. The Navy was advised by U.S. Environmental Protection Agency (EPA) Region 9 on January 24, 1997, that a new NPDES permit will limit the discharge of nutrients and metals to levels below those presently permitted. Replacement of the existing outfall will reduce pollutant loadings and water quality deterioration in the Pearl Harbor Estuary, and enable DON to be in compliance. As described in the Final Environmental Impact Statement (FEIS), the DON will construct and operate a new deep ocean outfall. The new outfall will provide an effluent disposal system that meets environmental and other regulatory constraints. All practicable means to avoid or minimize environmental harm from the alternative selected have been adopted.

Process

On September 11, 1996, the DON published in the Federal Register (61 FR 47898) a Notice of Intent to prepare an Environmental Impact Statement (EIS). On September 23, 1996, an EIS Preparation Notice was published in The Environmental Notice, a semi-monthly bulletin of the Hawaii State Department of Health (DOH). DON held two public scoping meetings on October 1 and October 2, 1996, in Honolulu, HI at Washington Intermediate School and Makalapa Elementary School, respectively. The EPA published a Notice of Availability (NOA) for the Draft EIS (DEIS) in the Federal Register on November 21, 1997 (62 FR 62303). An announcement was also placed in the December 8, 1997, issue of The Environmental Notice. DON held a public hearing to receive comments on the DEIS at Radford High School, Honolulu, HI, on December 17, 1997. In addition, DON distributed the DEIS to 124 government agencies, groups, and individuals. DON considered all oral and written comments in preparation of the FEIS. The EPA published a NOA for the FEIS in the Federal Register on May 4, 2001 (66 FR 22551). A NOA was also published in two local newspapers on May 4, May 5, and May 6, 2001. An announcement was also placed in the May 8, 2001, issue of The Environmental Notice.

Alternatives Considered

DON initially considered six alternative methods for reducing the discharge of pollutant loadings from the effluent discharge into the Pearl Harbor Estuary. DON developed conceptual designs for the six alternative methods and conducted a preliminary analysis based on the following: (1) Purpose and need of the project; (2) 30-year life-cycle costs; and (3) feasibility of implementation including construction, operation, and maintenance. DON determined that of the six alternative methods, only the deep ocean outfall and the underground injection alternatives were reasonable. These two alternatives and the “no action” alternative were carried forward for further analysis, with the deep ocean outfall alternative being identified as the preferred alternative. The analysis of the deep ocean outfall alternative included an evaluation of the environmental impacts of various alignments and construction methods that included trenching, microtunneling, and pile-supported pipe above the ocean floor.

Based upon this analysis, DON has chosen to construct a deep ocean outfall that will discharge the wastewater into the open coastal waters of Mamala Bay. The “no action” alternative was rejected as it would not enable the Navy to satisfy reasonably foreseeable regulatory requirements. The underground injection alternative was ultimately rejected in favor of the deep ocean outfall alternative because of its higher 30-year life cycle cost, the fair to poor reliability of the technology involved, and uncertain impacts on adjacent water bodies. The deep ocean outfall alternative is the environmentally preferred alternative.

Environmental Impacts

DON analyzed the direct, indirect, and cumulative impacts of each alternative on environmental resources involving land use and airspace; visual resources; socioeconomics; cultural resources; traffic and circulation; air quality; noise; biological resources; hydrological resources; utilities and services; public health and safety; and hazardous materials and waste. The only significant impacts that could result from the construction of the new WWTP outfall are discussed below.

Aquatic Environment

There is potential for significant impacts on the aquatic environment from normal construction activities. DON and its contractor(s) will employ standard Best Management Practices for construction in coastal waters, such as daily inspection of equipment for conditions that could cause spills or leaks; cleaning of equipment prior to deployment in the water; proper location of storage, refueling, and servicing sites; and implementation of adequate spill response, storm weather preparation plans, and the use of silt curtains to minimize the potential impact.

There is potential for impacts on the marine environment from the expected increase in turbidity and suspended solids in the water during the construction phase. Turbidity from construction in shallow waters, which tend to be relatively calm, will be contained by the use of silt curtains. Strong wave and current actions in the deep water portions of the project area will act to minimize increased turbidity in those areas. Water quality monitoring will be conducted during the construction period to ensure that water quality standards are not exceeded. Pursuant to section 401 of the Clean Water Act, DON will obtain and comply with the conditions of a Water Quality Certification from the DOH. The proposed action is expected to meet the conditions of the NPDES permit required by the Hawaii DOH.

There is potential for minor impacts on corals from construction activities associated with the replacement outfall. Construction impacts to areas supporting coral growth have been minimized by careful selection of the preferred outfall alignment and construction methodologies. The aggregate coral coverage impacted by the replacement outfall along its entire length is expected to be less than one-fifth of one percent (i.e., <0.2 percent) of the total coral on the reef flat within the construction area. The corals that would be affected are not unique and are readily found off the southern shore of Oahu at similar depths.

Protected Species and Habitat

There is potential danger from construction activities to marine species listed as endangered or threatened under the Endangered Species Act. Construction activities will cease if listed marine species are observed entering the active project construction site, and work will be allowed to resume only after the listed species departs the construction site on its own volition. The Pacific Islands Area Office of National Marine Fisheries Service (NMFS) will be notified of each such occurrence. Both the U.S. Fish and Wildlife Service and NMFS have concurred that neither listed species nor their habitat would be adversely impacted by normal construction activities associated with the deep ocean outfall. In the unlikely event that ordnance material is encountered that DON cannot safely remove or avoid, DON will, as appropriate, confer with NMFS before proceeding with construction in the area of the discovered ordnance material.

Public Health and Safety

There is potential for impacts on public health and safety from encountering ordnance items in the construction corridor. Approximately two hundred dives were performed between November 1999 and December 2000 along the proposed construction corridor and along the Pearl Harbor Entrance Channel (PHEC). These dives identified six projectiles within the proposed construction corridor. These six projectiles were subsequently removed safely without in-water detonation. Based on information collected from these dives, it is likely that ordnance can be safely removed or avoided if it is encountered. The construction contractor will perform an independent survey for ordnance items by visual and/or remote metallic detection methods prior to construction. All workers will be informed of the ordnance hazards before construction activities begin. Public access to construction areas will be restricted. If an ordnance item is encountered during construction, work will stop in the affected area pending DON clearance.

Response to Comments Received Regarding the Feis

EPA and a commercial entity provided comment letters. EPA's comments focused on construction related impacts to living coral and suitability of dredged material for ocean disposal.

EPA requested that DON include the following mitigation: take “appropriate and practicable steps” to minimize adverse impacts to corals; transplant living corals away from project area; and remove marine debris from the vicinity of the PHEC to generally enhance marine habitat. No exceptional, unusual, or large coral colonies are within the project area and, as discussed in the FEIS, potential impacts to the coral that is present have been minimized by careful selection of the outfall alignment and construction methodology (e.g., microtunneling and the use of silt curtains). Transplanting the small number of corals in the construction corridor that cannot be avoided is considered impracticable. The removal of marine debris from the vicinity of the PHEC would eliminate and degrade fish and threatened green sea turtle (Chelonia mydas) habitat because it is heavily utilized by these species.

EPA also requested additional discussions on the suitability of the dredged material for ocean disposal. Pursuant to Section 103 of the Marine Protection Research Sanctuaries Act, DON has provided this information as part of the permitting process regulated by the U.S. Army Corps of Engineers (COE) and the EPA. The COE permit application included data indicating that the material proposed for disposal will be substantially the same as the existing substrate at the EPA designated South Oahu Ocean Dredged Material Disposal Site and that the proposed dredged material site is located far from known pollution sources, therefore providing reasonable assurance that the material has not been contaminated. The COE permit will address concernns regarding ocean disposal.

The F.O.G. Corporation recommended use of its liquid bio-polymer to meet EPA discharge requirements and avoid construction of the outfall. The recommended bio-polymer product does not include removal of dissolved nutrients and therefore is not a viable alternative to the proposed action.

Conclusion

In determining how to dispose of wastewater effluent from the WWTP at Fort Kamehameha, I considered the following: present ability of the WWTP to comply with more stringent anticipated discharge wastewater effluent limits; technical feasibility; operational reliability; environmental impacts; costs associated with construction, operation, and maintenance of facilities; and comments received during the DEIS and FEIS public involvement periods.

After carefully weighing all of these factors and analyzing the data presented in the FEIS, I have determined that the preferred alternative, constructing a deep ocean outfall to replace the existing outfall, best meets the requirements for the disposal of wastewater effluent from the WWTP at Fort Kamehameha. Therefore, on behalf of the DON, I have decided to implement the proposed action by constructing a deep ocean replacement outfall and to retain the existing outfall for emergency bypass purposes. In addition to the specific mitigation measures identified in this ROD, the DON will continue to review its operational procedures and coordinate with other federal, state, and local entities as necessary to determine if any additional mitigation measure are feasible and practicable.

Dated: June 22, 2001.
Duncan Holady,
Deputy Assistant Secretary of the Navy (Installations and Facilities).

[FR Doc. 01-16960 Filed 7-5-01; 8:45 am]

BILLING CODE 3810-FF-M